DEPARTMENT OF COMMERCE

National Telecommunications and Information Administration

Multistakeholder Process To Develop Best Practices for Privacy, Transparency, and Accountability Regarding Commercial and Private Use of Unmanned Aircraft Systems

AGENCY: National Telecommunications and Information Administration, U.S. Department of Commerce.

ACTION: Notice of open meetings.

SUMMARY: The National Telecommunications and Information Administration (NTIA) will convene meetings of a multistakeholder process concerning privacy, transparency, and accountability issues regarding commercial and private use of unmanned aircraft systems. This Notice announces the meetings to be held in August, September, October, and November 2015. The first meeting is scheduled for August 3, 2015.

DATES: The meetings will be held on August 3, 2015; September 24, 2015; October 21, 2015; and November 20, 2015 from 1 p.m. to 5:00 p.m., Eastern Time. See SUPPLEMENTARY INFORMATION for details.

ADDRESSES: The meetings will be held in the Boardroom at the American Institute of Architects, 1735 New York Avenue NW., Washington, DC 20006.

FOR FURTHER INFORMATION CONTACT: John Verdi, National Telecommunications and Information Administration, U.S. Department of Commerce, 1401 Constitution Avenue NW., Room 4725, Washington, DC 20230; telephone (202) 482-8238; email jverdi@ntia.doc.gov. Please direct media inquiries to NTIA's Office of Public Affairs, (202) 482-7002; email press@ntia.doc.gov.

SUPPLEMENTARY INFORMATION: Background: Congress recognized the potential wide-ranging benefits of Unmanned Aircraft Systems (UAS) operations within the United States in the Federal Aviation Administration (FAA) Modernization and Reform Act of 2012 (Pub. L. 112-95), which requires a plan to safely integrate civil UAS into the National Airspace System (NAS) by 2015. Compared to manned aircraft, UAS may provide lower-cost operation and augment existing capabilities while reducing risks to human life. Estimates suggest the positive economic impact to U.S. industry of the integration of UAS into the NAS could be substantial and likely will grow for the foreseeable future.¹ UAS may be able to provide a variety of commercial services less expensively than manned aircraft, including aerial photography and farm management, while reducing or eliminating safety risks to aircraft operators. In addition, UAS may be able to provide some commercial services that would be impossible for manned aircraft. For example, improvements in technology may allow small UAS to deliver packages to homes and businesses where manned aircraft cannot land, and high-altitude UAS could provide Internet service to remote areas by remaining aloft for months at a time—far longer than manned aircraft.

¹ Presidential Memorandum, Promoting Economic Competitiveness While Safeguarding Privacy, Civil Rights, and Civil Liberties in Domestic Use of Unmanned Aircraft Systems, (Feb. 15, 2015), available at: http://www.whitehouse.gov/the-press-office/2015/02/15/presidential-memorandum-promoting-economic-competitiveness-while-safegua.

On February 15, 2015, President Obama issued the Presidential Memorandum “Promoting Economic Competitiveness While Safeguarding Privacy, Civil Rights, and Civil Liberties in Domestic Use of Unmanned Aircraft Systems.” The Presidential Memorandum states: “As UAS are integrated into the NAS, the Federal Government will take steps to ensure that the integration takes into account not only our economic competitiveness and public safety, but also the privacy, civil rights, and civil liberties concerns these systems may raise.” ² The Presidential Memorandum establishes a “multi-stakeholder engagement process to develop and communicate best practices for privacy, accountability, and transparency issues regarding commercial and private UAS use in the NAS.” ³ The process will include stakeholders from industry, civil society, and academia, and will be initiated by the Department of Commerce, through NTIA, and in consultation with other interested agencies.

² Presidential Memorandum at 1.

³ Presidential Memorandum at 4.

On March 5, 2015, NTIA sought public comment on three broad questions: (1) What privacy, transparency, and accountability issues concerning UAS are the highest priorities for stakeholders to address; (2) how might best practices address those issues; and (3) how should stakeholders' work be structured as the group works openly and transparently toward consensus.⁴ More than fifty commenters filed responses.⁵ Individuals and entities in the commercial, academic, civil society, and government sectors filed comments. The comments highlight a range of issues that might be addressed through the multistakeholder process and suggest various ways in which the group's work might be structured.

⁴ NTIA, Request for Public Comment, Privacy, Transparency, and Accountability Regarding Commercial and Private Use of Unmanned Aircraft Systems, 80 FR 11978 (March 5, 2015), available at: http://www.ntia.doc.gov/federal-register-notice/2015/request-comments-privacy-transparency-and-accountability-regarding-comm.

⁵ NTIA has posted the public comments received at http://www.ntia.doc.gov/federal-register-notice/2015/comments-privacy-transparency-and-accountability-regarding-commercial-a.

NTIA will convene stakeholders in an open and transparent forum to develop consensus best practices for utilization by commercial and private UAS operators. For this process, commercial and private use includes the use of UAS for commercial purposes as civil aircraft, even if the use would qualify a UAS as a public aircraft under 49 U.S.C. 40102(a)(41) and 40125. The process will not focus on law enforcement or other noncommercial governmental use of UAS.

NTIA is convening this process to address privacy concerns raised by commercial and private UAS. UAS can enable aerial data collection that is more sustained, pervasive, and invasive than manned flight; at the same time, UAS flights can reduce costs, provide novel services, and promote economic growth. These attributes create opportunities for innovation, but also pose privacy challenges regarding collection, use, retention, and dissemination of data collected by UAS. NTIA encourages stakeholders to work together within the NTIA process to identify safeguards that mitigate the privacy challenges posed by commercial and private UAS use, and to include appropriate safeguards in a stakeholder-drafted best practices document.

The NTIA-convened process is intended to promote transparent UAS operation by companies and individuals. Transparent operation can include identifying the entities that operate particular UAS, the purposes of UAS flights, and the data practices associated with UAS operations. Transparent UAS operation can enhance privacy and bolster other values. Transparency can help property owners identify UAS if an aircraft erroneously operates or lands on private property. Transparency can also facilitate reports of UAS operations that cause nuisances or appear unsafe. NTIA encourages stakeholders to work together within the NTIA process to identify transparency mechanisms, such as standardized physical markings (in addition to the markings required by the FAA for purposes of registration) or electronic identifiers, which could promote transparent UAS operation, and to include appropriate mechanisms in a stakeholder-drafted best practices document.

The NTIA-convened process is intended to promote accountable UAS operation by companies and individuals. UAS operators can employ accountability mechanisms to help ensure that privacy protections and transparency policies are enforced within an organization. Accountability mechanisms can include rules regarding oversight and privacy training for UAS pilots, as well as policies for how companies and individuals operate UAS and handle data collected by UAS. Accountability programs can also employ audits, assessments, and internal or external reports to verify UAS operators' compliance with their privacy and transparency commitments. Accountability mechanisms can be implemented by companies, model aircraft clubs, UAS training programs, or others. NTIA encourages stakeholders to work together within the NTIA process to identify mechanisms that can promote accountable UAS operation, and to include appropriate accountability mechanisms in a stakeholder-drafted best practices document.

NTIA's role in the multistakeholder process is to provide a forum for discussion and consensus-building among stakeholders. When stakeholders disagree, NTIA's role is to help the parties reach clarity on what their positions are and whether there are options for compromise toward consensus, rather than substituting NTIA's own judgment.

Matters To Be Considered: The August 3, 2015 meeting will be the first in a series of NTIA-convened multistakeholder discussions concerning privacy, transparency, and accountability issues regarding commercial and private use of UAS. Subsequent meetings will follow on September 24, 2015; October 21, 2015; and November 20, 2015. Additional meetings will be scheduled as needed. Stakeholders will engage in an open, transparent, consensus-driven process to develop best practices for privacy, accountability, and transparency issues regarding commercial and private UAS use in the NAS.

The objectives of the August 3, 2015, meeting are to: (1) Briefly review the current regulatory environment for commercial UAS operation; (2) briefly discuss the range of commercial uses of UAS; (3) engage stakeholders in a discussion of high-priority substantive issues stakeholders believe should be addressed by best practices for privacy, transparency, and accountability for UAS operation; and (4) engage stakeholders in a discussion of logistical issues, including the potential establishment of working groups and identification of concrete goals and stakeholder work between the August and September meetings. This first meeting is intended to provide stakeholders with factual background regarding how UAS technology is currently used by businesses and individuals, how the technology might be employed in the near future, and what privacy, transparency, and accountability issues might be raised by the technology. NTIA will publish an agenda in advance of the August 3, 2015 meeting.

The main objective of the September 24, 2015; October 21, 2015; and November 20, 2015 meetings is to encourage and facilitate continued discussion among stakeholders concerning a best practices document that sets forth privacy, transparency, and accountability practices for commercial and individual UAS operation. This discussion may include circulation of stakeholder-developed straw-man drafts and discussion of the appropriate scope of best practices. Stakeholders may also agree on procedural work plans for the group, including additional meetings or modified logistics for future meetings.

NTIA suggests that stakeholders consider “freezing” the draft code of conduct after the November 20, 2015 meeting in order to facilitate external review of the draft. Stakeholders would then likely reconvene the group in December 2015 or January 2016 to take account of external feedback. More information about stakeholders' work will be available at: http://www.ntia.doc.gov/other-publication/2015/multistakeholder-process-unmanned-aircraft-systems.

Time and Date: NTIA will convene meetings of the multistakeholder process regarding unmanned aircraft systems on August 3, 2015; September 24, 2015; October 21, 2015; and November 20, 2015, from 1:00 p.m. to 5:00 p.m., Eastern Time. The meeting dates and times are subject to change. The meetings are subject to cancelation if stakeholders complete their work developing a code of conduct. Please refer to NTIA's Web site, http://www.ntia.doc.gov/other-publication/2015/multistakeholder-process-unmanned-aircraft-systems, for the most current information.

Place: The meeting will be held in the Boardroom at the American Institute of Architects, 1735 New York Avenue NW., Washington, DC 20006. The location of the meetings is subject to change. Please refer to NTIA's Web site, http://www.ntia.doc.gov/other-publication/2015/multistakeholder-process-unmanned-aircraft-systems, for the most current information.

Other Information: The meetings are open to the public and the press. The meetings are physically accessible to people with disabilities. Requests for sign language interpretation or other auxiliary aids should be directed to John Verdi at (202) 482-8238 or jverdi@ntia.doc.gov at least seven (7) business days prior to each meeting. The meetings will also be webcast. Requests for real-time captioning of the webcast or other auxiliary aids should be directed to John Verdi at (202) 482-8238 or jverdi@ntia.doc.gov at least seven (7) business days prior to each meeting. There will be an opportunity for stakeholders viewing the webcast to participate remotely in the meetings through a moderated conference bridge, including polling functionality. Access details for the meetings are subject to change. Please refer to NTIA's Web site, http://www.ntia.doc.gov/other-publication/2015/multistakeholder-process-unmanned-aircraft-systems, for the most current information.

Dated: July 9, 2015.
Milton Brown,
Acting Chief Counsel, National Telecommunications and Information Administration.

[FR Doc. 2015-17206 Filed 7-13-15; 8:45 am]

BILLING CODE 3510-60-P